DEPARTMENT OF ENERGY

Federal Energy Regulatory Commission

Combined Notice of Filings #1

Take notice that the Commission received the following exempt wholesale generator filings:

Docket Numbers: EG21-90-000.

Applicants: Cool Springs Solar, LLC.

Description: Notice of Self-Certification of Exempt Wholesale Generator Status of Cool Springs Solar, LLC.

Filed Date: 2/17/21.

Accession Number: 20210217-5140.

Comments Due: 5 p.m. ET 3/10/21.

Take notice that the Commission received the following electric rate filings:

Docket Numbers: ER21-1163-000.

Applicants: NextEra Energy Transmission MidAtlantic, PJM Interconnection, L.L.C.

Description: § 205(d) Rate Filing: NEET submits Revisions to PJM Tariff Att. H-33B re ADIT Calculation to be effective 10/29/2020.

Filed Date: 2/17/21.

Accession Number: 20210217-5114.

Comments Due: 5 p.m. ET 3/10/21.

Docket Numbers: ER21-1164-000.

Applicants: California Independent System Operator Corporation.

Description: § 205(d) Rate Filing: 2021-02-17 Filing to Expedite Effectiveness of and Modify Tariff Provision to be effective 2/17/2021.

Filed Date: 2/17/21.

Accession Number: 20210217-5115.

Comments Due: 5 p.m. ET 2/19/21.

Docket Numbers: ER21-1165-000.

Applicants: Purge Energy LLC.

Description: Baseline eTariff Filing: Tariffs and Agreements to be effective 2/18/2021.

Filed Date: 2/18/21.

Accession Number: 20210218-5002.

Comments Due: 5 p.m. ET 3/11/21.

Docket Numbers: ER21-1166-000.

Applicants: PJM Interconnection, L.L.C.

Description: § 205(d) Rate Filing: Amendment to WMPA, Service Agreement No. 5694; Queue No. AF1-022 to be effective 6/11/2020.

Filed Date: 2/18/21.

Accession Number: 20210218-5018.

Comments Due: 5 p.m. ET 3/11/21.

Docket Numbers: ER21-1167-000.

Applicants: Southwest Power Pool, Inc.

Description: § 205(d) Rate Filing: 1977R15 Nemaha-Marshall Electric Cooperative NITSA and NOA to be effective 2/1/2021.

Filed Date: 2/18/21.

Accession Number: 20210218-5046.

Comments Due: 5 p.m. ET 3/11/21.

Docket Numbers: ER21-1168-000.

Applicants: PJM Interconnection, L.L.C.

Description: § 205(d) Rate Filing: Original ISA No. 5956; Queue No. AB2-172/AE1-087 to be effective 1/22/2021.

Filed Date: 2/18/21.

Accession Number: 20210218-5081.

Comments Due: 5 p.m. ET 3/11/21.

Docket Numbers: ER21-1169-000.

Applicants: Midcontinent Independent System Operator, Inc.

Description: § 205(d) Rate Filing: 2021-02-18_SA 3482 ATC-Paris Solar Energy Center 1st Rev GIA (J878) to be effective 2/3/2021.

Filed Date: 2/18/21.

Accession Number: 20210218-5093.

Comments Due: 5 p.m. ET 3/11/21.

Take notice that the Commission received the following electric securities filings:

Docket Numbers: ES21-32-000.

Applicants: Horizon West Transmission, LLC.

Description: Application under Section 204 of the Federal Power Act for Authorization to Issue Securities for Horizon West Transmission, LLC.

Filed Date: 2/18/21.

Accession Number: 20210218-5075.

Comments Due: 5 p.m. ET 3/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 18, 2021.
Nathaniel J. Davis, Sr.,
Deputy Secretary.

[FR Doc. 2021-03811 Filed 2-23-21; 8:45 am]

BILLING CODE 6717-01-P